DEPARTMENT OF ENERGY

Federal Energy Regulatory Commission

[Docket No. RP95-408-056]

Columbia Gas Transmission Corporation; Notice of Compliance Filing

January 7, 2004.

Take notice that on December 31, 2003, Columbia Gas Transmission Corporation (Columbia) tendered for filing as part of its FERC Gas Tariff, Second Revised Volume No. 1, the following revised tariff sheets, bearing a proposed effective date of February 1, 2004:

Sixty-seventh Revised Sheet No. 25

Sixty-seventh Revised Sheet No. 26

Sixty-seventh Revised Sheet No. 27

Fifty-sixth Revised Sheet No. 28

Eighth Revised Sheet No. 28B

Fifth Revised Sheet No. 29A

Thirty-first Revised Sheet No. 30A

Columbia states that this filing is being submitted pursuant to an Order issued September 15, 1999, by the Commission approving an uncontested settlement that resolves environmental cost recovery issues in the above-referenced proceeding. Columbia Gas Transmission Corporation, 88 FERC ¶ 61,217 (1999). The settlement established environmental cost recovery through unit components of base rates, all as more fully set forth in Article VI of the settlement agreement filed April 5, 1999 (Phase I Settlement).

Columbia states that copies of its filing have been mailed to all firm customers, interruptible customers and affected State commissions.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-65 Filed 01-14-04; 8:45 am]

BILLING CODE 6717-01-P